NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 16, 2003, from 10 a.m. to 11 a.m.

ADDRESSES: The United States Capitol Building, LBJ Room S-211.

FOR FURTHER INFORMATION CONTACT: Michael L. Gillette, Director; or Richard H. Hunt, Assistant Director; Center for Legislative Archives; (202) 501-5350.

SUPPLEMENTARY INFORMATION:

Agenda

Overview of Committee's activities

Congressional Centers Conference

Legislative records outside of official custody follow-up discussion

Activities report of the Center for Legislative Archives

Other current issues and new business

The meeting is open to the public.

Dated: May 27, 2003.
Mary Ann Hadyka,
Committee Management Officer.

[FR Doc. 03-13662 Filed 5-30-03; 8:45 am]

BILLING CODE 7515-01-P